SOCIAL SECURITY ADMINISTRATION

Agency Information Collection Activities: Emergency Request

The Social Security Administration (SSA) publishes a list of information collection packages requiring clearance by the Office of Management and Budget (OMB) in compliance with Public Law 104-13, the Paperwork Reduction Act of 1995, effective October 1, 1995. This notice covers an emergency revision of an existing OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection to the OMB Desk Officer and the SSA Reports Clearance Officer to the following addresses or fax numbers.

(OMB)

Office of Management and Budget, Attn: Desk Officer for SSA, Fax: 202-395-6974, E-mail address: OIRA_Submission@omb.eop.gov

(SSA)

Social Security Administration, DCBFM, Attn: Reports Clearance Officer, 1340 Annex Building, 6401 Security Blvd., Baltimore, MD 21235, Fax: 410-965-8783, E-mail address: OPLM.RCO@ssa.gov.

SSA submitted the information collection below to OMB for Emergency Clearance. SSA is requesting Emergency Clearance from OMB no later than February 10, 2010. Individuals can obtain copies of the collection instrument by calling the SSA Reports Clearance Officer or by writing to the above e-mail address. OIRA_Submission@omb.eop.gov

Registration for Appointed Representative Services and Direct Payment—0960-0732. SSA uses Form SSA-1699 to register appointed representatives of claimants before SSA who:

• Want to register for direct payment of fees;

• Registered for direct payment of fees prior to October 31, 2009, but need to update their information;

• Registered as appointed representatives on or after October 31, 2009, but need to update their information; or

• Received a notice from SSA instructing them to complete this form.

By registering these individuals, SSA: (1) Authenticates and authorizes them to do business with us; (2) allows them access to our records for the claimants they represent; (3) facilitates direct payment of authorized fees to appointed representatives; and (4) collects the information we will need to meet Internal Revenue Service (IRS) requirements to issue specific IRS forms if we pay these representatives in excess of a specific amount ($600).

Although SSA currently uses a lengthier OMB-approved version of this form, we are requesting emergency clearance for an abbreviated version due to extensive comments from respondents indicating they need a simpler version immediately.

The respondents are appointed representatives who meet the above criteria.

Type of Request: Emergency clearance of an OMB-approved information collection.

Number of Respondents: 52,800.

Frequency of Response: 1.

Average Burden per Response: 20 minutes.

Estimated Annual Burden: 17,600 hours.

Dated: January 29, 2010.
Elizabeth A. Davidson,
Director, Center for Reports Clearance, Social Security Administration.

[FR Doc. 2010-2297 Filed 2-2-10; 8:45 am]

BILLING CODE 4191-02-P